DEPARTMENT OF AGRICULTURE

Animal and Plant Health Inspection Service

[Docket No. 01-009-5]

Wildlife Services; Availability of a Supplemental Environmental Assessment and Decision/Finding of No Significant Impact for Oral Rabies Vaccine Program

AGENCY: Animal and Plant Health Inspection Service, USDA.

ACTION: Notice and request for comments.

SUMMARY: We are advising the public that we have prepared a June 2003 supplemental environmental assessment and decision/finding of no significant impact relative to oral rabies vaccination programs in several States. Since the publication of our original environmental assessment and decision/finding of no significant impact and a subsequent supplemental decision/finding of no significant impact, we have determined there is a need to expand the oral rabies vaccine program to include the States of Georgia and Maine to effectively stop the westward and northward spread of the rabies virus across the United States and into Canada. The purpose of the supplemental environmental assessment and decision/finding of no significant impact is to facilitate planning, interagency coordination, and program management and to provide the public with our analysis of potential individual and cumulative impacts of an expanded oral rabies vaccine program.

DATES: We will consider all comments that we receive on or before July 30, 2003. Unless new substantial issues bearing on the effects of the proposed expansion of the oral rabies vaccine programs are brought to our attention, the new decision/finding of no significant impact will take effect upon the close of the comment period.

ADDRESSES: You may submit comments by postal mail/commercial delivery or by e-mail. If you use postal mail/commercial delivery, please send four copies of your comment (an original and three copies) to: Docket No. 01-009-5, Regulatory Analysis and Development, PPD, APHIS, Station 3C71, 4700 River Road Unit 118, Riverdale, MD 20737-1238. Please state that your comment refers to Docket No. 01-009-5. If you use e-mail, address your comment to regulations@aphis.usda.gov. Your comment must be contained in the body of your message; do not send attached files. Please include your name and address in your message and “Docket No. 01-009-5” on the subject line.

To obtain copies of any of the documents discussed in this notice, contact Tara Wilcox, Operational Support Staff, Wildlife Services, APHIS, 4700 River Road Unit 87, Riverdale, MD 20737-1234; phone (301) 734-7921, fax (301) 734-5157, or e-mail: Tara.C.Wilcox@aphis.usda.gov. When requesting copies, please specify the document or documents you wish to receive.

You may also read the documents discussed in this notice, as well as any comments that we receive, in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. Dennis Slate, Rabies Program Coordinator, Wildlife Services, APHIS, 59 Chennell Drive, Suite 7, Concord, NH 03301-8548; phone (603) 223-6832.

SUPPLEMENTARY INFORMATION:

Background

The Wildlife Services (WS) program in the Animal and Plant Health Inspection Service (APHIS) cooperates with Federal agencies, State and local governments, and private individuals to research and implement the best methods of managing conflicts between wildlife and human health and safety, agriculture, property, and natural resources. Wildlife-borne diseases that can affect domestic animals and humans are among the types of conflicts that APHIS-WS addresses. Wildlife is the dominant reservoir of rabies in the United States.

On December 7, 2000, a notice was published in the Federal Register (65 FR 76606-76607, Docket No. 00-045-1) in which the Secretary of Agriculture declared an emergency and transferred funds from the Commodity Credit Corporation to APHIS-WS for the continuation and expansion of oral rabies vaccination (ORV) programs to address rabies in the States of Ohio, New York, Vermont, Texas, and West Virginia.

On March 7, 2001, we published a notice in the Federal Register (66 FR 13697-13700, Docket No. 01-009-1) to solicit public involvement in the planning of a proposed cooperative program to stop the spread of rabies in the States of New York, Ohio, Texas, Vermont, and West Virginia. The notice also stated that a small portion of northeastern New Hampshire and the western counties in Pennsylvania that border Ohio could also be included in these control efforts, and discussed the possibility of APHIS-WS cooperating in smaller-scale ORV projects in the States of Florida, Massachusetts, Maryland, New Jersey, Virginia, and Alabama. The March 2001 notice contained detailed information about the history of the problems with raccoon rabies in eastern States and with gray fox and coyote rabies in Texas, along with information about previous and ongoing efforts using ORV baits in programs to prevent the spread of the rabies variants or “strains” of concern.

Subsequently, on May 17, 2001, we published in the Federal Register (66 FR 27489, Docket No. 01-009-2) a notice in which we announced the availability, for public review and comment, of an environmental assessment (EA) that examined the potential environmental effects of the ORV programs described in our March 2001 notice. We solicited comments on the EA for 30 days ending on June 18, 2001. We received one comment by that date. The comment was from an animal protection organization and supported APHIS' efforts toward limiting or eradicating rabies in wildlife populations. The commenter did not, however, support the use of lethal monitoring methods or local depopulation as part of an ORV program.

Finally, on August 30, 2001, we published a notice in the Federal Register (66 FR 45835-45836, Docket No. 01-009-3) in which we advised the public of APHIS' decision and finding of no significant impact (FONSI) regarding the use of oral vaccination to control specific rabies virus strains in raccoons, gray foxes, and coyotes in the United States. That decision allows APHIS-WS to purchase and distribute ORV baits, monitor the effectiveness of the ORV programs, and participate in implementing contingency plans that may involve the reduction of a limited number of local target species populations through lethal means (i.e., the preferred alternative identified in the EA). The decision was based upon the final EA, which reflected our review and consideration of the comments received from the public in response to our March 2001 and May 2001 notices and information gathered during planning/scoping meetings with State health departments, other State and local agencies, the Ontario Ministry of Natural Resources, and the Centers for Disease Control and Prevention.

Following the August 2001 publication of our original decision/FONSI, we determined there was a need to expand the ORV programs to include the States of Kentucky and Tennessee to effectively stop the westward spread of raccoon rabies. Accordingly, we prepared a supplemental decision/FONSI to document the potential effects of expanding the programs. We published a notice announcing the availability of the supplemental decision/FONSI in the Federal Register on July 5, 2002 (67 FR 44797-44798, Docket No. 01-009-4).

We have recently determined that there is a need to further expand the ORV programs to include the States of Georgia and Maine to effectively prevent the westward and northward spread of the rabies virus across the United States and into Canada. To facilitate planning, interagency coordination, and program management and to provide the public with our analysis of potential individual and cumulative impacts of the expanded ORV programs, we have prepared a June 2003 supplemental EA that addresses the inclusion of Georgia and Maine, as well as the 2002 inclusion of Kentucky and Tennessee, in the ORV programs. In addition, we have prepared a new decision/FONSI based on the supplemental EA.

The States where APHIS-WS involvement would be continued or expanded include Maine, New York, Vermont, New Hampshire, Pennsylvania, Ohio, Virginia, West Virginia, Tennessee, Kentucky, Alabama, Georgia, Florida, and Texas. APHIS-WS would also continue to cooperate in smaller scale ORV projects in the States of Massachusetts, Maryland, and New Jersey. Currently, cooperative rabies surveillance activities are conducted in each of the aforementioned States. ORV baiting programs are conducted or are planned to be conducted in all of the aforementioned States, except Kentucky. However, based upon surveillance information, ORV baiting programs may be expanded in the future under the proposed action to include this remaining State. As noted above, the primary goal of the ORV programs is to stop the spread of specific strains of the rabies virus, i.e., raccoon rabies in the eastern States and gray fox and coyote rabies in Texas. The June 2003 supplemental EA analyzes the proposed action and several alternatives with respect to a number of environmental and other issues raised by involved cooperating agencies and the public.

The August 2001 EA and decision/FONSI, the July 2002 supplemental decision/FONSI, and the June 2003 supplemental EA and decision/FONSI that are the subject of this notice have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 19th day of June 2003.
Bobby R. Acord,
Administrator, Animal and Plant Health Inspection Service.

[FR Doc. 03-16475 Filed 6-27-03; 8:45 am]

BILLING CODE 3410-34-P